DEPARTMENT OF ENERGY

Federal Energy Regulatory Commission

[Docket No. QF10-229-000]

Medical Area Total Energy Plant, Inc., New MATEP Inc.; Notice of Application for Commission Certification of Qualifying Status of a Cogeneration Facility

January 4, 2010.

Take notice that on December 29, 2009, Medical Area Total Energy Plant, Inc. and New MATEP Inc., 474 Brookline Avenue, Boston, MA 02215, filed with the Federal Energy Regulatory Commission an application for recertification of a facility as a qualifying cogeneration facility pursuant to 18 CFR 292.207(b) of the Commission's regulations. No determination has been made that the submittal constitutes a complete filing.

The facility is a central district energy plant located in the Longwood Medical and Academic Area of Boston, MA that operates in both cogeneration and combined cycle modes, currently comprised of combustion turbine, diesel and steam turbine generators, heat recovery steam generators, conventional boilers, and large industrial chillers. Annual consumption by MATEP's commercial and institutional customers totals over 1.7 billion pounds of steam, 91 ton-hours of refrigeration and 316 million kilowatt-hours of electricity. Its primary energy sources are natural gas and oil based fuels.

The facility is interconnected with NSTAR Electric Company, and sells excess electric power output that is not consumed by the facility's institutional and commercial customers to ISO New England Inc. The facility purchases supplementary, standby, back-up and maintenance power from either NSTAR Electric Company or Constellation New Energy, Inc.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 19, 2010.

Kimberly D. Bose,
Secretary.

[FR Doc. 2010-185 Filed 1-8-10; 8:45 am]

BILLING CODE 6717-01-P